FEDERAL ELECTION COMMISSION

[Notice 2015-08]

Filing Dates for the Illinois Special Elections in the 18th Congressional District

AGENCY: Federal Election Commission.

ACTION: Notice of filing dates for special elections.

SUMMARY: Illinois has scheduled special elections on July 7, 2015, and September 10, 2015, to fill the U.S. House of Representative seat in the 18th Congressional District vacated by Representative Aaron Schock.

Committees required to file reports in connection with the Special Primary Election on July 7, 2015, shall file a 12-day Pre-Primary Report. Committees required to file reports in connection with both the Special Primary and the Special General Election on September 10, 2015, shall file a 12-day Pre-Primary Report, 12-day Pre-General Report and a Post-General Report.

FOR FURTHER INFORMATION CONTACT: Ms. Elizabeth S. Kurland, Information Division, 999 E Street NW., Washington, DC 20463; Telephone: (202) 694-1100; Toll Free (800) 424-9530.

SUPPLEMENTARY INFORMATION:

Principal Campaign Committees

All principal campaign committees of candidates who participate in the Illinois Special Primary and Special General Elections shall file a 12-day Pre-Primary Report on June 25, 2015; a 12-day Pre-General Report on August 29, 2015; and a Post-General Report on October 10, 2015. (See charts below for the closing date for each report.)

All principal campaign committees of candidates participating only in the Special Primary Election shall file a 12-day Pre-Primary Report on June 25, 2015. (See charts below for the closing date for each report.)

Unauthorized Committees (PACs and Party Committees)

Political committees filing on a semi-annual basis in 2015 are subject to special election reporting if they make previously undisclosed contributions or expenditures in connection with the Illinois Special Primary or Special General Elections by the close of books for the applicable report(s). (See charts below for the closing date for each report.)

Committees filing monthly that make contributions or expenditures in connection with the Illinois Special Primary or Special General Elections will continue to file according to the monthly reporting schedule.

Additional disclosure information in connection with the Illinois Special Elections may be found on the FEC Web site at http://www.fec.gov/info/report_dates.shtml.

Disclosure of Lobbyist Bundling Activity

Principal campaign committees, party committees and Leadership PACs that are otherwise required to file reports in connection with the special elections must simultaneously file FEC Form 3L if they receive two or more bundled contributions from lobbyists/registrants or lobbyist/registrant PACs that aggregate in excess of $17,600 during the special election reporting periods. (See charts below for closing date of each period.) 11 CFR 104.22(a)(5)(v), (b).

Calendar of Reporting Dates for Illinois Special Elections
Report | Close of books ¹ | Reg./Cert. & overnight mailing deadline | Filing deadline
Quarterly Filing Campaign Committees Involved in Only the Special Primary (07/07/15) Must File
Pre-Primary | 06/17/15 | 06/22/15 | 06/25/15
July Quarterly | 06/30/15 | 07/15/15 | 07/15/15
Semi-Annual Filing Committees Involved in Only the Special Primary (07/07/15) Must File
Pre-Primary | 06/17/15 | 06/22/15 | 06/25/15
Mid-Year | 06/30/15 | 07/31/15 | 07/31/15
Quarterly Filing Campaign Committees Involved in Both the Special Primary (07/07/15) and Special General (09/10/15) Must File
Pre-Primary | 06/17/15 | 06/22/15 | 06/25/15
July Quarterly | 06/30/15 | 07/15/15 | 07/15/15
Pre-General | 08/21/15 | 08/26/15 | ² 08/29/15
Post-General | 09/30/15 | 10/10/15 | ² 10/10/15
October Quarterly | —WAIVED—
Year-End | 12/31/15 | 01/31/16 | ² 01/31/16
Semi-Annual Filing Committees Involved in Both the Special Primary (07/07/15) and Special General (09/10/15) Must File
Pre-Primary | 06/17/15 | 06/22/15 | 06/25/15
Mid-Year | 06/30/15 | 07/31/15 | 07/31/15
Pre-General | 08/21/15 | 08/26/15 | ² 08/29/15
Post-General | 09/30/15 | 10/10/15 | ² 10/10/15
Year-End | 12/31/15 | 01/31/16 | ² 01/31/16
Quarterly Filing Campaign Committees Involved in Only the Special General (09/10/15) Must File
Pre-General | 08/21/15 | 08/26/15 | ² 08/29/15
Post-General | 09/30/15 | 10/10/15 | ² 10/10/15
October Quarterly | —WAIVED—
Year-End | 12/31/15 | 01/31/16 | ² 01/31/16
Semi-Annual Filing Committees Involved in Only the Special General (09/10/15) Must File
Pre-General | 08/21/15 | 08/26/15 | ² 08/29/15
Post-General | 09/30/15 | 10/10/15 | ² 10/10/15
Year-End | 12/31/15 | 01/31/16 | ² 01/31/16
¹ The reporting period always begins the day after the closing date of the last report filed. If the committee is new and has not previously filed a report, the first report must cover all activity that occurred before the committee registered as a political committee up through the close of books for the first report due.
² Notice that this filing deadline falls on a weekend. Filing deadlines are not extended when they fall on nonworking days. Accordingly, reports filed by methods other than Registered, Certified or Overnight Mail or electronically, must be received before the Commission's close of business on the last business day before the deadline.

Dated: April 27, 2015.
On behalf of the Commission.
Ann M. Ravel,
Chair, Federal Election Commission.

[FR Doc. 2015-10350 Filed 5-1-15; 8:45 am]

BILLING CODE 6715-01-P